DEPARTMENT OF COMMERCE

National Oceanic and Atmospheric Administration

Availability of Seats for the MONITOR National Marine Sanctuary Advisory Council

AGENCY: Office of National Marine Sanctuaries (ONMS), National Ocean Service (NOS), National Oceanic and Atmospheric Administration, Department of Commerce (DOC).

ACTION: Notice and request for applications.

SUMMARY: The MONITOR National Marine Sanctuary (MNMS or Sanctuary) is seeking applicants for the following vacant seats on its Sanctuary Advisory Council (Council): Recreational Diving; Maritime Archaeological Research; Conservation; Education; Heritage Tourism; and Citizen-at-Large.

Applicants are chosen based upon their particular expertise and experience in relation to the seat for which they are applying; community and professional affiliations; philosophy regarding the protection and management of marine resources; and possibly the length of residence in the area affected by the Sanctuary. Applicants who are chosen as members should expect to serve 2-year terms, pursuant to the Council's Charter.

DATES: Applications are due by September 30, 2005.

ADDRESSES: Application kits may be obtained from: Krista Trono, MONITOR National Marine Sanctuary, 100 Museum Drive, Newport News, VA 23602. Completed applications should be sent to the same address.

FOR FURTHER INFORMATION CONTACT: Krista Trono, Communications Coordinator, MONITOR National Marine Sanctuary, 100 Museum Drive Newport News, Va 23602. (757) 591-7328, Fax: (757) 591-7353, Krista.Trono@noaa.gov.

SUPPLEMENTARY INFORMATION: The MNMS Advisory Council will be established in 2005 and representation will consist of eleven members, including four government agency representatives and seven members from the general public. The Council functions in an advisory capacity to the Sanctuary Manager. The Council works in concert with the Sanctuary Manager by keeping him or her informed about issues of concern throughout the Sanctuary, offering recommendations on specific issues, and aiding the Manager in achieving the goals of the Sanctuary program. Specifically, the Council's objectives are to provide advice on: (1) Protecting cultural resources, and identifying and evaluating emergent or critical issues involving Sanctuary use or resources; (2) Identifying and realizing the Sanctuary's research objectives; (3) Identifying and realizing educational opportunities to increase the public knowledge and stewardship of the Sanctuary environment; and (4) Assisting to develop an informed constituency to increase awareness and understanding of the purpose and value of the Sanctuary and the National Marine Sanctuary Program.

Authority: 16 U.S.C. Sections 1431, et seq.

Dated: August 12, 2005.
(Federal Domestic Assistance Catalog Number 11.429 Marine Sanctuary Program)
Daniel J. Basta,
Director, National Marine Sanctuary Program, National Ocean Services, National Oceanic and Atmospheric Administration.

[FR Doc. 05-16622 Filed 8-19-05; 8:45 am]

BILLING CODE 3510-NK-M